COMMISSION ON CIVIL RIGHTS

Sunshine Act Notice; Meeting

AGENCY: United States Commission on Civil Rights.

ACTION: Notice of business meeting.

DATE AND TIME: Friday, June 20, 2014; 9:30 a.m. EST

PLACE: 1331 Pennsylvania Ave. NW., Suite 1150, Washington, DC 20425.

Meeting Agenda

I. Approval of Agenda

II. Program Planning

• Discussion and Vote on Part A & Part B of the Statutory Enforcement Report: Patient Dumping

• Discussion and Vote on Part A & Part B of the briefing report: Increasing Compliance with Section 7 of the NVRA

• Discussion and Vote on Part B of the briefing report: Sex Trafficking: A Gender-Based Civil Rights Violation

• Discussion and Vote on Part B of the briefing report: Engagement with Arab and Muslim American Communities Post 9/11

• Consideration and Vote on Commission Resolution Commemorating the Anniversary of the Civil Rights Act of 1964

• Procedural Discussion re: Voting on Briefing Topics for FY15

• Update on July 25, 2014 Briefing on the Department of Education Office of Civil Rights and the Department of Justice Office of Civil Rights Enforcement of Sexual Harassment Policy at Educational Institutions

III. Management and Operations

• Staff Director's Report

IV. State Advisory Committee (SAC) Appointments

• California

• Hawaii

• Nebraska

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: June 9, 2014.
Marlene Sallo,
Staff Director.

[FR Doc. 2014-13814 Filed 6-10-14; 11:15 am]

BILLING CODE 6335-01-P